CONSUMER PRODUCT SAFETY COMMISSION

16 CFR Part 1408

[Docket No. CPSC-2019-0020]

Safety Standard for Residential Gas Furnaces and Boilers; Correction

AGENCY: Consumer Product Safety Commission.

ACTION: Proposed rule; correction.

SUMMARY: On October 25, 2023, the Commission published a notice of proposed rulemaking (NPR) to address dangerous levels of carbon monoxide production and leakage from residential gas furnaces and boilers. That document contained a typographical error in the preamble. This document corrects that error.

DATES: November 7, 2023.

FOR FURTHER INFORMATION CONTACT: Ronald A. Jordan, Directorate for Engineering Sciences, Mechanical Engineering, Consumer Product Safety Commission, National Product Testing and Evaluation Center, 5 Research Place, Rockville, MD 20850; telephone: 301-987-2219; rjordan@cpsc.gov.

SUPPLEMENTARY INFORMATION: The Commission is correcting a typographical error in the preamble of the NPR, Safety Standard for Residential Gas Furnaces and Boilers, 16 CFR part 1408, which appeared in the Federal Register on October 25, 2023. 88 FR 73272. This document corrects a typographical error in section XV of the preamble, entitled Paperwork Reduction Act. On page 73289, first column, second paragraph, the first sentence erroneously states “4,374 hours (833 hours + 833 + 208 hours + 2,500 hours)”. This notice corrects that error by revising that language to correctly read “3,541 hours (833 hours + 208 hours + 2,500 hours)”. The estimated time burden thus is lower than stated in the NPR. The estimated financial burden in the same sentence is unchanged.

Alberta E. Mills,
Secretary, Consumer Product Safety Commission.

[FR Doc. 2023-24538 Filed 11-6-23; 8:45 am]

BILLING CODE 6355-01-P